NATIONAL AERONAUTICS AND SPACE ADMINISTRATION

[Notice: 13-034]

NASA Advisory Council; Science Committee; Astrophysics Subcommittee; Meeting

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This Subcommittee reports to the Science Committee of the NAC. The Meeting will be held for the purpose of soliciting, from the scientific community and other persons, scientific and technical information relevant to program planning.

DATES: Tuesday, April 16, 2013, 9:00 a.m. to 5:00 p.m., and Wednesday, April 17, 2013, 9:00 a.m. to 3:00 p.m., Local Time.

ADDRESSES: Holiday Inn Capitol, 550 C Street SW., Discovery II Room, Washington, DC 20024, and NASA Headquarters, 300 E Street SW., Room 6H45, Washington, DC 20546, respectively.

FOR FURTHER INFORMATION CONTACT: Ms. Marian Norris, Science Mission Directorate, NASA Headquarters, Washington, DC 20546, (202) 358-4452, fax (202) 358-3094, or mnorris@nasa.gov.

SUPPLEMENTARY INFORMATION: The meeting will be open to the public up to the capacity of the room. This meeting will also be available telephonically and by WebEx. Any interested person may call the USA toll free conference call number 800-857-7040, pass code APS, to participate in this meeting by telephone. The WebEx link is https://nasa.webex.com, meeting number on April 16 is 993 342 017, and password APS@Apr16; the meeting number on April 17 is 993 894 322, and password APS@Apr17. The agenda for the meeting includes the following topics:

—Astrophysics Division Update

—Report from Astrophysics Roadmap Team

—James Webb Space Telescope Update

—Research and Analysis Update

—Report on Balloon Program

It is imperative that the meeting be held on these dates to accommodate the scheduling priorities of the key participants. Publication with less than 15 calendar day notice due to sequestration requirements. Attendees will be requested to sign a register and to comply with NASA security requirements, including the presentation of a valid picture ID to Security before access to NASA Headquarters. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Marian Norris via email at mnorris@nasa.gov or by fax at (202) 358-3094. U.S. citizens and Permanent Residents (green card holders) are requested to submit their name and affiliation 3 working days prior to the meeting to Marian Norris.

Patricia D. Rausch,
Advisory Committee Management Officer, National Aeronautics and Space Administration.

[FR Doc. 2013-07775 Filed 4-3-13; 8:45 am]

BILLING CODE 7510-13-P